DEPARTMENT OF TRANSPORTATION

National Highway Traffic Safety Administration

[Docket No. NHTSA-2020-0027]

Denial of Motor Vehicle Defect Petition, DP19-003

AGENCY: National Highway Traffic Safety Administration, (NHTSA), Department of Transportation.

ACTION: Denial of a petition for a defect investigation.

SUMMARY: This notice sets forth the reasons for the denial of a petition, DP19-003, submitted by Mr. Kevin O'Brien to the Administrator of NHTSA (the “Agency”) by a letter dated August 12, 2019. The petition requests that the agency initiate a safety defect investigation into an alleged “excessive stalling problem” experienced by operators of 2019 Model Year (MY) Volkswagen GTI, Jetta GLI, and Golf GTI manual transmission vehicles (the “subject vehicles”) “as the vehicles slow to a stop or prepare to make a turn across traffic with the clutch pressed in and the car in neutral.” After conducting a technical review of: (1) Consumer complaints submitted by the petitioner; (2) consumer complaint information in NHTSA's databases; and (3) information provided by Volkswagen in response to our information requests regarding vehicle stalling and complaints received by Volkswagen, NHTSA's Office of Defect Investigations (ODI) has concluded that it is unlikely that additional investigation would result in a finding that a defect related to motor vehicle safety exists. As a result, no further investigation of the issue raised by the petition is warranted and the agency, accordingly, has denied the petition.

FOR FURTHER INFORMATION CONTACT: Ms. Sharon Yukevich, Vehicle Defect Division A, Office of Defects Investigation, NHTSA, 1200 New Jersey Avenue SE, Washington, DC 20590. Telephone: 202-366-4925. Email: sharon.yukevich@dot.gov.

SUPPLEMENTARY INFORMATION:

Introduction

Interested persons may petition NHTSA requesting that the agency initiate an investigation to determine whether a motor vehicle or an item of replacement equipment does not comply with an applicable motor vehicle safety standard or contains a defect that relates to motor vehicle safety. 49 U.S.C. 30162(a)(2); 49 CFR 552.1. Upon receipt of a properly filed petition, the agency conducts a technical review of the petition, material submitted with the petition and any additional information. 49 U.S.C. 30162(a)(2); 49 CFR 552.6. The technical review may consist solely of a review of information already in the possession of the agency or it may include the collection of information from the motor vehicle manufacturer and/or other sources. After conducting the technical review and considering appropriate factors, which may include, but are not limited to, the nature of the complaint, allocation of agency resources, agency priorities, the likelihood of uncovering sufficient evidence to establish the existence of a defect and the likelihood of success in any necessary enforcement litigation, the agency will grant or deny the petition. See 49 U.S.C. 30162(a)(2); 49 CFR 552.8.

Background Information

In a letter dated August 12, 2019, Mr. Kevin O'Brien (the petitioner) requested that NHTSA “initiate a safety defect investigation into the excessive stalling problem” experienced by operators of 2019 Model Year (MY) Volkswagen GTI, Jetta GLI, and Golf GTI manual transmission vehicles “as the vehicles slow to a stop or prepare to make a turn across traffic with the clutch pressed in and the car in neutral.” Mr. O'Brien based his request on his own experience and data found in the NHTSA Vehicle Owner Questionnaire (VOQ) database. NHTSA has based its decision on a review of the material cited by the petitioner, information submitted by Volkswagen in response to our Information Request letter, and other pertinent information in NHTSA's databases.

Summary of the Petition

The petitioner reported that his 2019 MY Volkswagen GTI experienced excessive stalling as the vehicle slowed to a stop or prepared to make a turn across traffic with the clutch pressed in and the vehicle in neutral on numerous occasions. The petitioner further noted that this issue is being experienced by operators of 2019 MY Volkswagen Golf GTI and Jetta GLI vehicles equipped with manual transmissions, as evidenced by additional complaints on NHTSA's website related to the same issue in the subject vehicle models.

Office of Defects Investigation Analysis

The hazard posed by a vehicle stalling event is manifested in the inability of the vehicle to move with the flow of surrounding traffic. The stalled vehicle, along with its operator and occupants, becomes a stationary target with traffic moving past the vehicle. Two factors have a major impact on the potential hazard to the vehicle, its occupants and surrounding vehicles, the surrounding traffic speed and the stalled vehicle's restart ability.

If the vehicle operator is able to restart the vehicle immediately or within a reasonable amount of time, the hazard is reduced and the vehicle can rejoin the flow of traffic. In the case of the vehicles that are the subject of this petition, restart is immediate, which substantially reduces the risk of harm to the vehicle, its occupants and surrounding vehicles.

If the surrounding traffic is not traveling at a significantly higher speed than the stalled vehicle, the surrounding traffic has sufficient time and ability to take evasive measures to avoid the road hazard imposed by the stalled vehicle. In the case of the vehicles that are the subject of this petition, the stall occurs when the vehicle is slowing to stop for a traffic signal or make a turn, or is completely stopped and at idle, further reducing the hazard due to the low speeds of all vehicles near the stalled vehicle.

As of March 2, 2020, out of the population of 11,333 subject vehicles, NHTSA has identified 214 consumer complaints with unique Vehicle Identification Numbers (VINs), in NHTSA's databases alleging engine stalling as vehicles are being brought to a stop and/or preparing to make a cross traffic turn, as cited in the petition. When combined with the warranty, field report and customer complaint data received from Volkswagen in response to the Information Request letter sent, NHTSA identified 413 unique VINs alleging low speed engine stalling with immediate restart. Of the allegations received by both NHTSA and Volkswagen, only two (2) resulted in minor collisions, neither of which had any injuries associated with the impact. One collision was a rear impact and the other was a curb swipe.

Volkswagen determined the low speed/idle engine stall was the result of unwanted gases remaining in the cylinder, caused by the intake valve camshaft not being in the correct position at idle. The intake camshaft is in an advanced position. This advanced position results in too much overlap with the position of the exhaust valve camshaft, allowing both the intake and exhaust valves to be open at the same time. The erroneous advanced position of the intake camshaft is a result of low oil pressure at idle and high oil temperatures, ≥110 °C/230 °F, combined with engine control algorithms in the Engine Control Module (ECM) that position the intake camshaft. Based on an examination of returned engines, only engines manufactured at the Silao Mexico plant were affected, due to a tolerance stack-up issue with the oil system of the engines.

In December of 2019, Volkswagen initiated a Service Action (24FD), with active customer notification, to remedy the stalling issue in the affected vehicles. The warranty for the affected vehicles was extended to December 31, 2025. The software in the ECM will be updated with a new calibration value for the adaptation nodes of the regulation valve to ensure the intake camshaft is in the proper position at idle and/or low speeds. In December 2019 letters were sent to vehicle owners, instructing them to bring their vehicles to their dealership to have the software update installed in their vehicle. NHTSA believes there is a high likelihood that many affected vehicles will be remedied with this action due to the vehicle age.

After thoroughly assessing the material submitted by the petitioner, information already in NHTSA's possession, information submitted by Volkswagen in response to an information request, and the potential risks to safety implicated by the petitioner's allegation, NHTSA does not believe that the stalling condition alleged by the petitioner indicates the likelihood of a safety related defect that would warrant a formal investigation. After full consideration of the potential for finding a safety related defect and in view of NHTSA's enforcement priorities, the petition is denied.

Jeffrey Mark Giuseppe,
Associate Administrator for Enforcement.

[FR Doc. 2020-14157 Filed 6-30-20; 8:45 am]

BILLING CODE 4910-59-P